DEPARTMENT OF TRANSPORTATION

Federal Aviation Administration

[Docket No. FAA-2013-0684]

Agency Information Collection Activities: Requests for Comments; Clearance of a New Approval of Information Collection: Helicopter Air Ambulance Operator Reports; Correction

AGENCY: Federal Aviation Administration (FAA), DOT.

ACTION: Notice and request for comments.

SUMMARY: In accordance with the Paperwork Reduction Act of 1995, FAA invites public comments about our intention to request the Office of Management and Budget (OMB) approval for a new information collection. This notice corrects a notice published in the Federal Register on July 31, 2013 (78 FR 46405) to include additional background information, to include the docket number FAA-2013-0684, which contains supplementary documentation on the subject information collection, and to extend the comment period. The FAA Modernization and Reform Act of 2012 included a mandate to begin collection of operational data from Air Ambulance operators. FAA is to summarize the data and report to Congress no later than February 14, 2014, and annually thereafter.

DATES: Written comments should be submitted by October 11, 2013.

FOR FURTHER INFORMATION CONTACT: Kathy DePaepe at (405) 954-9362, or by email at: Kathy.DePaepe@faa.gov.

SUPPLEMENTARY INFORMATION:

OMB Control Number: 2120-XXXX.

Title: Helicopter Air Ambulance Operator Reports.

Form Numbers: There are no FAA forms associated with this collection.

Type of Review: Clearance of a new information collection.

Background: The FAA Modernization and Reform Act of 2012 mandates that all helicopter air ambulance operators must begin reporting the number of flights and hours flown, along with other specified information, during which helicopters operated by the certificate holder were providing helicopter air ambulance services. See 49 U.S.C. 44731. The helicopter air ambulance operational data provided to the FAA will be used by the agency as background information useful in the development of risk mitigation strategies to reduce the currently unacceptably high helicopter air ambulance accident rate, and to meet the mandates set by Congress. Upon approval of this information collection the FAA intends to amend helicopter air ambulance operators' Operations Specifications to require submission of the data, mandated by Congress, to the FAA.

The FAA notes that prior to issuance of this notice representatives from the Flight Standards Service, Office of Accident Investigation and Prevention, and the Office of the Chief Counsel met with representatives from the Air Medical Operators Association (AMOA) to discuss the FAA's approach to this data collection. Meetings were held on October 15, 2012 and May 17, 2013. On June 28, 2013 AMOA submitted a response to the FAA discussing its view of the method to collect the data being pursued by the FAA. A copy of that letter has been placed in the docket and will be considered by the agency.

Respondents: 73 helicopter air ambulance certificate holders.

Frequency: Information is collected quarterly.

Estimated Average Burden per Response: 6 hours.

Estimated Total Annual Burden: 2,352 hours.

ADDRESSES: Send comments identified by docket number to the FAA at the following address: Ms. Kathy DePaepe, Room 126B, Federal Aviation Administration, AES-200, 6500 S. MacArthur Blvd., Oklahoma City, OK 73169. Comments may also be submitted electronically by going to http://www.regulations.gov and following the online instructions.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

The supplementary materials placed in the docket may be read at http://www.regulations.gov at any time. Follow the online instructions for accessing the docket or go to Docket Operations in Room W12-140 of the West Building Ground Floor at 1200 New Jersey Avenue SE.,Washington, DC between 9 a.m. and 5 p.m., Monday through Friday, except Federal holidays.

Issued in Washington, DC on August 5, 2013.
Albert R. Spence,
FAA Assistant Information Collection Clearance Officer, IT Enterprises Business Services Division, AES-200.

[FR Doc. 2013-19449 Filed 8-9-13; 8:45 am]

BILLING CODE 4910-13-P